SMALL BUSINESS ADMINISTRATION

Committee Management; Notice of Establishment

The Administrator of the U.S. Small Business Administration (SBA) has determined that the renewal of the Washington, DC District Advisory Council is necessary and in the public interest in connection with the performance of duties imposed upon the Administrator, U.S. Small Business Administration by 15 U.S.C. 633. This determination follows consultation with the Office of Management and Budget and with the Management Secretariat, General Services Administration.

Name of Committee: Washington, DC District Advisory Council.

Purpose and Objective: The Council provides advice and opinions regarding the effectiveness of and need for SBA programs, particularly within the local districts which members represent. Its members provide an essential connection between SBA, SBA program participants, and the local small business community.

Balanced Membership Plans: The required minimum membership is 9 members. SBA selects members predominantely from the private sector, including people from such industries as retail, manufacturing, and financial services. Members also include representatives from academia, the media, and appropriate Federal, State and local agencies.

Duration: Continuing.

Responsible SBA Officials: Antonio Doss, Acting District Director, Washington, DC District Office, U.S. Small Business Administration, 740 15th Street, NW., Washington, DC 20005.

Meredith Davis,
Committee Management Officer.

[FR Doc. 08-111 Filed 1-15-08; 8:45 am]

BILLING CODE 8025-01-M